DEPARTMENT OF COMMERCE

[I.D. 011102D]

Submission for OMB Review; Comment Request

The Department of Commerce has submitted to the Office of Management and Budget (OMB) for clearance the following proposal for collection of information under the provisions of the Paperwork Reduction Act (44 U.S.C. chapter 35).

Agency: National Oceanic and Atmospheric Administration (NOAA).

Title: Southeast Region Bycatch Reduction Device Certification Family of Forms.

Form Number(s): None.

OMB Approval Number: 0648-0345.

Type of Request: Regular submission.

Burden Hours: 7,500.

Number of Respondents: 31.

Average Hours Per Response: Submissions for certification in the Gulf of Mexico, 140 minutes for pre-certification; 180 minutes for pre-certification data; 140 minutes for a certification application; 20 minutes each for a vessel identification form, a gear specification form, a station sheet form, a turtle excluder device/bycatch reduction device specification form, a length frequency form, and a condition and fate form; 5 hours for a species characterization form; 4 hours for a final report; 1 hour for an observer certification or observer reference; 4 hours for testing; and 30 minutes for a submission of independent tests. Submissions for certification in the South Atlantic, 30 minutes each for a vessel identification form or a gear form; 2 hours for a station sheet bycatch reduction device evaluation form; 50 minutes for a length frequency form; 100 hours for testing; and 30 minutes for a submission of independent tests.

Needs and Uses: Persons seeking to obtain certification for bycatch reduction devices to be used on shrimp vessels in the Gulf of Mexico or South Atlantic must apply for authorization to conduct tests and submit the test results. Persons seeking certification to be observers for such tests in the Gulf of Mexico must file an application and provide two references. The information is needed for NOAA to determine if equipment meets the standards that would allow its use in commercial fisheries.

Affected Public: Business or other for-profit organizations, individuals or households.

Frequency: On occasion.

Respondent's Obligation: Required to obtain or retain a benefit.

OMB Desk Officer: David Rostker, (202) 395-3897.

Copies of the above information collection proposal can be obtained by calling or writing Madeleine Clayton, Departmental Paperwork Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: January 10, 2002.
Madeleine Clayton,
Departmental Paperwork Clearance Officer, Office of the Chief Information Officer.

[FR Doc. 02-1141 Filed 1-15-02; 8:45 am]

BILLING CODE 3510-22-S